DEPARTMENT OF ENERGY

Federal Energy Regulatory Commission

[Docket No. AD12-2-000]

Notice of Availability of Final Revisions to the Upland Erosion Control, Revegetation, and Maintenance Plan and Wetland and Waterbody Construction and Mitigation Procedures

The staff of the Office of Energy Projects has revised its Upland Erosion Control, Revegetation, and Maintenance Plan (Plan) and Wetland and Waterbody Construction and Mitigation Procedures (Procedures). Attached to this notice are full texts of the final Plan and Procedure revisions, identifying all changes from the January 2003 versions in tracked changes format ¹. Clean copies of the revised Plan and Procedures (May 2013 versions) are available on the Federal Energy Regulatory Commission (FERC or Commission) Web site at http://www.ferc.gov/industries/gas/enviro/guidelines.asp.

¹ The attachments referenced in this notice will not appear in the Federal Register.

The Plan and Procedures are referred to at 18 Code of Federal Regulations (CFR) 380.12(i)(5) and 380.12(d)(2), respectively, as well as 18 CFR 157C.206(b)(3)(iv). The Plan and Procedures identify the staff's baseline mitigation measures for minimizing erosion, enhancing revegetation, and minimizing the extent and duration of disturbance on wetlands and waterbodies during the construction of FERC jurisdictional natural gas projects.

In accordance with Order 603,² the FERC staff solicited comments on the January 2003 versions of the Plan and Procedures by public notice issued October 31, 2011, in the above referenced docket. Draft revisions were issued for comment on July 31, 2012, and the Plan and Procedures were subsequently revised and finalized. During the comment periods, the FERC received input from the natural gas industry, federal, state and local agencies, environmental consultants, inspectors, construction contractors, nongovernmental organizations and other interested parties with special expertise with respect to environmental issues commonly associated with pipeline projects and other natural gas facility construction projects. The final revisions address the comments filed in response to the public notices, frequent inquiries for clarification or staff guidance, and common variance requests. Other modifications provide necessary updates to reflect current laws and industry best management practices.

² Revision of Existing Regulations Under Part 157 and Related Sections of the Commission's Regulations Under the Natural Gas Act, Commission Order No. 603, Docket No. RM98-9-000, issued April 29, 1999. Noticed in the Federal Register on May 14, 1999. 64 FR 26572.

All of the information related to the Plan and Procedures revisions and submitted comments can be found on the FERC Web site (www.ferc.gov) using the eLibrary link. Click on the eLibrary link, click on “General Search” and enter the docket number, excluding the last three digits in the Docket Number field (i.e., AD12-2). Be sure you have selected an appropriate date range. For assistance, please contact FERC Online Support at FercOnlineSupport@ferc.gov or toll free at (866) 208-3676, or for TTY, contact (202) 502-8659.

Information Collection Statement

In compliance with the requirements of the Paperwork Reduction Act of 1995, 44 USC 3507(a)(1)(D), the FERC is submitting the information collection changes described in this notice to the Office of Management and Budget (OMB) for review.

Any interested person may file comments regarding the information collection requirements directly with OMB and should address a copy of those comments to the Commission as explained below. The Commission issued a Notice in the Federal Register (77 FR 47063, 8/7/2012) requesting public comments. FERC received no comments directly related to the practical utility of the information or the accuracy of the burden estimates. FERC did receive comments suggesting ways to clarify and improve the nature of the information collected, which we took into consideration for the final Plan and Procedure revisions.³

³ FERC addresses the applicable comments in its submittal to OMB under the Paperwork Reduction Act. The public can access this submittal via www.reginfo.gov by searching in the “currently under review” field for FERC information collections.

Comments filed with OMB, identified by the OMB Control No. 1902-0128, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. AD12-2-000, by either of the following methods:

• eFiling at Commission's Web site: http://www.ferc.gov/docs-filing/efiling.asp. With eFiling you can provide comments in a variety of formats by attaching them as a file with your submission. New eFiling users must first create an account by clicking on “eRegister.” You will be asked to select the type of filing you are making. A comment in response to this notice is considered a “Comment on a Filing”; or

• You may file a paper copy of your comments at the following address: Kimberly D. Bose, Secretary, Federal Energy Regulatory Commission, 888 First Street NE., Room 1A, Washington, DC 20426.

The information collection requirements in the Plan and Procedures are part of FERC-577, Natural Gas Facilities: Environmental Review and Compliance (OMB Control No. 1902-0128).⁴

⁴ In the July 31, 2012 Notice of Availability, the Commission erroneously indicated that the Plan and Procedures were part of the FERC-537.

The final Plan and Procedure revisions identified in this notice are primarily modifications and clarifications to the content of information collections required by the current versions. For example, revisions to Plan sections III.I and VII.B.2 clarify staff's expectations for the content of winter construction plans and quarterly activity reports. Revisions to Plan section III.F standardize staff's expectations regarding wildlife and livestock protection measures and blasting plans. A revision to Procedure section VI.D.5 modifies the wetland revegetation success criteria used for monitoring and reporting. Such revisions do not constitute entirely new information collections; however, we estimate the revisions will increase reporting burden by adjusting the existing ways to comply with previously applicable instructions and requirements; training personnel to respond to the modified collection of information; and completing and reviewing these collections.

We estimate that certain revisions will reduce reporting burden on jurisdictional natural gas companies by providing guidance that is frequently requested during report preparations; directions to provide information that frequently results in data requests; and improved flexibility to reduce variance requests for construction practices the staff has determined are acceptable. For example, frequently requested guidance on beneficial reuse of construction materials is provided in revised Plan sections II.B.17 and III.E. Identification of baseline expectations for residential construction practices is provided in revised Plan section III.H. We expect variance requests will be reduced via revisions to Procedure section V.B.3.g that addresses construction through waterbodies that are dry or frozen, and Procedure section VI.B.2.f that addresses burning of woody debris in wetlands. Additionally, we expect revisions to Procedure section II.A to reduce reporting burden on jurisdictional entities, permitting detailed justifications rather than site-specific plans for reduced workspace setbacks at waterbodies and wetlands, and expanded wetland construction rights-of-way.

We revised terminology to be inclusive of prior notice, advanced notice, and automatic authorization projects to address the wider net of project types subject to the Plan and Procedure requirements. The revisions clarify applicability for projects constructed under the Commission's blanket certificate program (18 CFR part 157, subpart F) and construction of facilities for transportation services under the Natural Gas Policy Act (NGPA) section 311 (18 CFR part 284, Subpart A). We expect these clarifications to improve the efficiency of the environmental review process, and reduce labor hours required of jurisdictional natural gas companies to prepare reports.

We implement a new record retention requirement regarding drainage system repairs or improvements (see revised Plan section VII.B.1.e). In addition, we also put in place a new annual report for affected wetlands that do not successfully revegetate within three years after construction (see revised Procedure section VI.D.6). We expect this revision to result in a minor increase in reporting burden due to the low incidence of wetland revegetation failure.

We expect that the revisions will lead to additional filings for blanket certificate projects, subject to our prior notice regulations (see revised “Applicability” discussions in section I of the Plan and Procedures). Such filings include winter construction plans noted in revised Plan section III.I, and the pre-construction filings noted in section II of the Procedures (e.g., hydrostatic testing information, waterbody crossing schedules, spill prevention and response procedures, plans for major waterbody crossings, horizontal directional drill crossings, and justifications for any variances). This would not reflect entirely new reporting burdens however, as this information is typically requested by staff during review of these projects to ensure compliance with blanket certificate standard conditions in 18 CFR 157.206.

Overall, in consideration of the revisions to reporting requirements and the increased efficiency that would be realized during the environmental review process, we expect the net effect of the revised Plan and Procedures to constitute a minor increase in information collection burden.

Burden Estimate: The estimate below was updated using workload completion data prepared by FERC's Division of Gas—Environment and Engineering for fiscal year 2012. The estimate previously provided in the July 31, 2012 Notice of Availability was based on fiscal year 2011 workload completion data.⁵ Respondents include companies that filed project applications under Natural Gas Act (NGA) Section 7, blanket certificate prior notice filings and annual reports, and NGPA 311 advanced notification filings and annual reports.

⁵ We found upon further review of the previous estimate that we did not account for all of the filings in the fiscal year 2011 data. We correct the previous error in this notice. The net effect of using the 2012 data (along with accurate accounting) is an increase of 509 hours from the July 31, 2012 notice.

Modification to FERC-577, OMB Control No. 1902-0128 | Average number of respondents annually | Average number of filings per year ⁶ | Average change in burden hrs. per filing (rounded) | Total annual change in burden hrs. for all filings types
|  | (a) | (b) | (a × b)
Upland Plan | 81 Natural Gas Companies | 218 | 7.6 | 1667
Wetland and Waterbody Procedures | 81 Natural Gas Companies | 218 | −4.2 | −905
Grand total |  |  |  | 762

The total estimated annual cost burden to prepare new or modified information collections based on the Plan and Procedure revisions is $53,340 (762 hours times $70/hr ⁷).

⁶ NGA 7, Blanket Certificate, and NGPA 311 filings. Filings were excluded if they qualified as categorical exclusions under the National Environmental Policy Act or were otherwise categorized as “environment not involved.”

⁷ Estimated average annual cost (wage plus benefits) per employee.

We expect the estimated burden would reduce in subsequent years, as companies adjust to the modified information collections and have trained their personnel to collect information per the revised Plan and Procedures.

Interested persons may obtain additional information on the OMB process and information collection statement by contacting Ellen Brown, Office of the Executive Director, via email at DataClearance@ferc.gov; by phone (202) 502-8663, or facsimile (202) 273-0973.

Dated: May 31, 2013.
Kimberly D. Bose,
Secretary.

[FR Doc. 2013-13516 Filed 6-6-13; 8:45 am]

BILLING CODE 6717-01-P